DEPARTMENT OF THE INTERIOR

National Park Service

[NPS-WASO-NAGPRA-NPS0026175; PPWOCRADN0-PCU00RP14.R50000]

Notice of Inventory Completion: The University of Oregon Museum of Natural and Cultural History, Eugene, OR

AGENCY: National Park Service, Interior.

ACTION: Notice.

SUMMARY: The University of Oregon Museum of Natural and Cultural History has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the University of Oregon Museum of Natural and Cultural History. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the University of Oregon Museum of Natural and Cultural History at the address in this notice by October 10, 2018.

ADDRESSES: Dr. Pamela Endzweig, Director of Collections, Museum of Natural and Cultural History, 1224 University of Oregon, Eugene, OR 97403-1224, telephone (541) 346-5120, email endzweig@uoregon.edu.

SUPPLEMENTARY INFORMATION: Notice is here given in accordance with the Native American Graves Protection and Repatriation Act (NAGPRA), 25 U.S.C. 3003, of the completion of an inventory of human remains under the control of the University of Oregon Museum of Natural and Cultural History, Eugene, OR. The human remains were removed from Hotchkiss Mound, Contra Costa County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of Oregon Museum of Natural and Cultural History professional staff in consultation with representatives of the Buena Vista Rancheria of Me-Wuk Indians of California; Chicken Ranch Rancheria of Me-Wuk Indians of California; Jackson Band of Miwuk Indians (previously listed as the Jackson Rancheria of Me-Wuk Indians of California); Kletsel Dehe Band of Wintun Indians (previously listed as the Cortina Indian Rancheria and the Cortina Indian Rancheria of Wintun Indians of California); Picayune Rancheria of Chukchansi Indians of California; Shingle Springs Band of Miwok Indians, Shingle Springs Rancheria (Verona Tract), California; Table Mountain Rancheria (previously listed as the Table Mountain Rancheria of California); Tule River Indian Tribe of the Tule River Reservation, California; and Tuolumne Band of Me-Wuk Indians of the Tuolumne Rancheria of California, hereafter referred to as “The Tribes.”

History and Description of the Remains

At an unknown date, human remains representing, at minimum, one individual were removed from Hotchkiss Mound in the lower Sacramento Valley, Contra Costa County, CA. It is unknown who originally donated the human remains to the museum. Accession records attribute the human remains to Hotchkiss Mound. Although there is no documentation regarding the transfer of the human remains to the Museum, it is likely that they were donated by the archeologist Robert F. Heizer, who donated several other items from this area to the Museum in the 1940s. The human remains consist of an adult male. No known individuals were identified. No associated funerary objects are present.

Historical documents, ethnographic sources, and oral history indicate that the Plains Miwok and Northern Valley Yokuts have occupied this area of the Lower Sacramento Valley since precontact times. Based on archeological context and skeletal evidence, the individual was determined to be of Native American ancestry and Plains Miwok and/or Northern Valley Yokuts. The Plains Miwok and Northern Valley Yokuts are represented today by The Tribes.

Determinations Made by the University of Oregon Museum of Natural and Cultural History

Officials of the University of Oregon Museum of Natural and Cultural History have determined that:

• Pursuant to 25 U.S.C. 3001(9), the human remains described in this notice represent the physical remains of one individual of Native American ancestry.

• Pursuant to 25 U.S.C. 3001(2), there is a relationship of shared group identity that can be reasonably traced between the Native American human remains and The Tribes.

Additional Requestors and Disposition

Lineal descendants or representatives of any Indian Tribe or Native Hawaiian organization not identified in this notice that wish to request transfer of control of these human remains should submit a written request with information in support of the request to Dr. Pamela Endzweig, Director of Collections, Museum of Natural and Cultural History, 1224 University of Oregon, Eugene, OR 97403-1224, telephone (541) 346-5120, email endzweig@uoregon.edu, by October 10, 2018. After that date, if no additional requestors have come forward, transfer of control of the human remains to The Tribes may proceed.

The University of Oregon Museum of Natural and Cultural History is responsible for notifying The Tribes that this notice has been published.

Dated: August 3, 2018.
Melanie O'Brien,
Manager, National NAGPRA Program.

[FR Doc. 2018-19525 Filed 9-7-18; 8:45 am]

BILLING CODE 4312-52-P